DEPARTMENT OF COMMERCE

National Oceanic and Atmospheric Administration

15 CFR Part 909

DEPARTMENT OF HOMELAND SECURITY

Coast Guard

33 CFR Part 151

[USCG-2007-0164]

RIN 0648-AV68; 1625-AB24

Definition of Marine Debris for Purposes of the Marine Debris Research, Prevention, and Pollution Act

Correction

In proposed rule document E8-11700 beginning on page 30322 in the issue of Tuesday, May 27, 2008 make the following correction:

On page 30323, in the first column, under the NOAA heading, in paragraph (2), in the first and second lines, “NOAA.MarineDebris.

FRNcomments.noaa.gov.” should read “NOAA.MarineDebris.

FRNcomments@noaa.gov.”.

[FR Doc. Z8-11700 Filed 6-18-08; 8:45 am]

BILLING CODE 1505-01-D